DEPARTMENT OF DEFENSE

Department of the Army; Corps of Engineers

Intent to Prepare a Joint Draft Environmental Impact Statement/Environmental Impact Report for the Wilson Creek/Oak Glen Creek Feasibility Study in the City of Yucaipa, San Bernardino County, CA

AGENCY: Department of the Army, U.S. Army Corps of Engineers, DoD.

ACTION: Notice of intent.

SUMMARY: The U.S. Army Corps of Engineers (Corps), Los Angeles District, in cooperation with the County of San Bernardino Flood Control District, will prepare a Draft Environmental Impact Statement/Environmental Impact Report (EIS/EIR) in support of the proposed Wilson Creek/Oak Glen Creek Feasibility Study for flood protection for City of Yucaipa, in San Bernardino County, California. The study will also investigate the feasibility of habitat restoration opportunities and preservation of watershed resources in balance with the need for economic development. The drainage from Wilson Creek/Oak Glen Creek creates a high volume of sediment and debris through the City of Yucaipa. This condition creates a threat of flood damage to existing residential and commercial development and infrastructure along these creeks. The EIS/EIR will address foreseeable environmental impacts, including beneficial effects, associated with alternative flood protection plans. The U.S. Army Corps of Engineers and the County of San Bernardino Flood Control District will cooperate in conducing this Feasibility Study. The U.S. Army Corps of Engineers is the lead Federal Agency for this study.

DATES: A public scoping meeting is scheduled at the City of Yucaipa Council Chambers, 34272 Yucaipa Boulevard, Yucaipa, California 92399 from 6 pm to 9 pm on January 14, 2004.

Comments: Written comments concerning the Draft EIS/EIR should be submitted by February 12, 2004.

ADDRESSES: Submit comments to District Engineer, U.S. Army Corps of Engineers, Los Angeles District, ATTN: CESPL-PD-RL (L. Goodman), P.O. Box 532711, Los Angeles, CA 90053-2325.

FOR FURTHER INFORMATION CONTACT: Ms. Lois Goodman, Environmental Coordinator, telephone (213)-452-3869, or Mr. Robert Stuart, Study Manager, telephone (213)-452-3811. The cooperating entity, the County of San Bernardino Flood Control District, requests that inquiries be addressed to Mr. Jim Borcuk, at (909)-387-7962.

SUPPLEMENTARY INFORMATION: 1. Authorization. Congress has authorized the U.S. Army Corps of Engineers to conduct a Feasibility Study to investigate flood damage prevention and related opportunities along the Wilson Creek and Oak Glen Creek confluence area in Yucaipa, California, pursuant to House Resolution of the Committee on Public Works, dated May 8, 1964. Section 105 of the Water Resources Development Act of 1986 (Pub. L. 99-662, as amended) specifies the cost sharing requirements applicable to this study.

2. Background. The proposed study will investigate the feasibility of providing improved flood protection for the City of Yucaipa in San Bernardino County, California. The city of Yucaipa is located approximately 20 miles southeast of the city of San Bernardino. Wilson and Oak Glen Creeks originate in the San Bernardino Mountains and flow in a southerly direction through the city of Yucaipa, where they join.

Wilson Creek is an earth-bottomed channel from Yucaipa Boulevard, downstream to Interstate 10. A system of rail, cable, wire fencing, and corrugated steel protects the toe of the banks. The channel width averages about 50 feet, and the channel depth is about 10 feet. At Yucaipa Boulevard, the low bridge clearance severely restricts the channel depth. This constriction would likely divert major flood overflows to the southeast, away from the channel, where they could inundate a large portion of the developed area of Yucaipa before returning to the channel near the freeway. Based on Flood Insurance Rate Maps (FIRM), the 100-year floodplain is up to one half mile wide along one and one half miles of the north bank of Wilson Creek. The FIRM also indicates a significantly wide floodplain from 2nd street downstream top Oak Glen Boulevard, a distance of about two miles. Proposed new development along both sides of the creek may increase runoff in the near future. Overflows from Oak Glen Creek could inundate existing structures located along about one mile of the south overbank. The County of San Bernardino Flood Control District owns and operates a series of five large, interconnected, off-line water conservation basins along the south overbank of Wilson Creek, between Fremont Street and Bryant Street.

3. Proposed Action/Preliminary Alternatives. Two preliminary alternatives, in addition to the No Action alternative, were identified in the Reconnaissance Study. Preliminary Alternative 1 involves converting the off-line water conservation basins on the south overbank of Wilson Creek to flood detention basins. These basins appear to have the potential to contain substantial flood storage volume. Preliminary Alternative 2 involves deepening and widening sections of the channel in order to control the 100-year flood event, possibly in combination with additional detention basins upstream from the flooding problem. Subsequent to completion of the Reconnaissance Study, the City of Yucaipa developed a preliminary plan that includes a series of six interconnected in-stream detention basins at the confluence of Wilson Creek and Oak Glen Creek and immediately upstream on both Creeks. This preliminary plan also includes a nature trail and interpretive features.

4. Scoping Process. All interested Federal, State, County and local resource agencies, as well as Native American peoples, groups with environmental interests, and all interested individuals are encouraged to participate in the scoping process. Benefits of public involvement include: identification of pertinent environmental issues that need to be addressed; identification of issues that are not significant that may be eliminated from detailed study; contribution of useful information, such as published or unpublished data, direct personal experience, or knowledge which may support the decision-making process; assistance in defining the scope of appropriate plans and alternatives to be considered; and recommendations for suitable measures to mitigate potential adverse impacts of implementing plans or alternatives.

A public scoping meeting is scheduled on January 14, 2004 (see DATES). The purpose of the scoping meeting will be to gather information from the general public and interested organizations about issues and concerns that they would like to see addressed in the EIS/EIR. Comments may be delivered verbally at the meeting or sent in writing to the Los Angeles District. (See DATES and ADDRESSES above.)

5. Availability of the Draft EIS/EIR. The Draft EIS/EIR is expected to be available to the public for review and comment beginning in late 2005.

Dated: December 16, 2003.
Richard G. Thompson,
Colonel, US Army, District Engineer.

[FR Doc. 03-31894 Filed 12-24-03; 8:45 am]

BILLING CODE 3710-KF-M